DEPARTMENT OF LABOR

Employment and Training Administration

[TA-W-61,237; TA-W-61,237A]

Oneida Ltd.,Distribution Facility Sherrill, New York; Oneida Ltd, Sales Office Oneida, New York; Dismissal of Application for Reconsideration

Pursuant to 29 CFR 90.18(C) an application for administrative reconsideration was filed with the Director of the Division of Trade Adjustment Assistance for workers at Oneida Ltd, Distribution Facility, Sherrill, New York and Oneida Ltd, Sales Office, Oneida, New York. The application did not contain new information supporting a conclusion that the determination was erroneous, and also did not provide a justification for reconsideration of the determination that was based on either mistaken facts or a misinterpretation of facts or of the law. Therefore, dismissal of the application was issued.

TA-W-61,237; Oneida Ltd, Distribution Facility Sherrill, New York and

TA-W-61,237A; Oneida Ltd, Sales Office, Oneida, New York (June 6, 2007).

Signed at Washington, DC this 8th day of June 2007.
Linda G. Poole,
Certifying Officer Division of Trade Adjustment Assistance.

[FR Doc. E7-11475 Filed 6-13-07; 8:45 am]

BILLING CODE 4510-FN-P